DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: U.S. Pacific Albacore Logbook.

OMB Control Number: 0648-0223.

Form Number(s): 88-197.

Type of Request: Regular submission (extension of a current information collection).

Number of Respondents: 1,000.

Average Hours per Response: 1 hour.

Burden Hours: 4,000.

Needs and Uses: This request is for an extension of a current information collection.

The National Oceanic and Atmospheric Administrations, Southwest Fisheries Science Center operates a Pacific Albacore Data Collection Program. Fishermen participating on the Pacific albacore tuna fishery are required to complete and submit logbooks documenting their catch and effort on fishing trips. This is a requirement under the Highly Migratory Species Fishery Management Plan and the High-Seas Fisheries Compliance Act permit for logbook submissions. The information obtained is used by the agency to assess the status of albacore stocks and to monitor the fishery. Fishermen are also provided an electronic logbook computer program that they can voluntarily use in place of the paper copy of the logbook.

Affected Public: Business or other for-profit organizations.

Frequency: On occasion.

Respondent's Obligation: Mandatory.

OMB Desk Officer: OIRA_Submission@omb.eop.gov.

Copies of the above information collection proposal can be obtained by calling or writing Diana Hynek, Departmental Paperwork Clearance Officer, (202) 482-0266, Department of Commerce, Room 6616, 14th and Constitution Avenue NW., Washington, DC 20230 (or via the Internet at dHynek@doc.gov).

Written comments and recommendations for the proposed information collection should be sent within 30 days of publication of this notice to OIRA_Submission@omb.eop.gov.

Dated: December 2, 2011.
Gwellnar Banks,
Management Analyst, Office of the Chief Information Officer.

[FR Doc. 2011-31340 Filed 12-6-11; 8:45 am]

BILLING CODE 3510-22-P